DEPARTMENT OF AGRICULTURE

Animal and Plant Health Inspection Service

[Docket No. APHIS-2014-0026]

Notice of Request for Extension of Approval of an Information Collection; Importation of Used Farm Equipment From Regions Affected With Foot-and-Mouth Disease

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the importation of used farm equipment into the United States from regions affected with foot-and-mouth disease.

DATES: We will consider all comments that we receive on or before September 2, 2014.

ADDRESSES: You may submit comments by either of the following methods:

• Federal eRulemaking Portal: Go to http://www.regulations.gov/#!docketDetail;D=APHIS-2014-0026.

• Postal Mail/Commercial Delivery: Send your comment to Docket No. APHIS-2014-0026, Regulatory Analysis and Development, PPD, APHIS, Station 3A-03.8, 4700 River Road Unit 118, Riverdale, MD 20737-1238.

Supporting documents and any comments we receive on this docket may be viewed at http://www.regulations.gov/#!docketDetail;D=APHIS-2014-0026 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of used farm equipment from regions affected with foot-and-mouth disease, contact Dr. Tracye Hernandez-Bynum, Senior Staff Veterinarian, National Import Export Services, VS, APHIS, 4700 River Road Unit 40, Riverdale, MD 20737; (301) 851-3300. For copies of more detailed information on the information collection, contact Mrs. Celeste Sickles, APHIS' Information Collection Coordinator, at (301) 851-2908.

SUPPLEMENTARY INFORMATION: Title: Importation of Used Farm Equipment From Regions Affected With Foot-and-Mouth Disease.

OMB Control Number: 0579-0195.

Type of Request: Extension of approval of an information collection.

Abstract: Under the Animal Health Protection Act (7 U.S.C. 8301 et seq.), the Animal and Plant Health Inspection Service (APHIS) of the U.S. Department of Agriculture (USDA) is authorized, among other things, to prohibit or restrict the importation of animals, animal products, and other articles into the United States to prevent the introduction of animal diseases and pests. The regulations for the importation of animals, animal products, and other articles into the United States are contained in 9 CFR parts 92 through 98.

In part 94, § 94.1(c) prohibits the importation of used farm equipment into the United States from regions where APHIS considers foot-and-mouth disease (FMD) or rinderpest to exist unless the equipment has been steam-cleaned prior to export to the United States so that it is free of exposed dirt and other particulate matter. Such equipment must be accompanied by an original certificate, signed by an authorized official of the national animal health service of the exporting region, stating that the farm equipment after its last use and prior to export, was steam-cleaned free of all exposed dirt and other particulate matter.

Since the last approval of this activity by the Office of Management and Budget (OMB), APHIS has declared additional regions as free of FMD, which means that these regions are no longer subject to the requirements in § 94.1(c). As a result, there is a decrease in the estimated annual number of respondents from 150 to 91, and a decrease in the estimated annual number of responses from 1,000 to 910. In addition, the estimated total annual burden on respondents has decreased from 200 hours to 182 hours.

We are asking OMB to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.20 hours per response.

Respondents: Exporters of used farm equipment and foreign animal health officials in FMD-affected regions.

Estimated annual number of respondents: 91.

Estimated annual number of responses per respondent: 10.

Estimated annual number of responses: 910.

Estimated total annual burden on respondents: 182 hours. (Due to averaging, the total annual burden hours may not equal the product of the annual number of responses multiplied by the reporting burden per response.)

All responses to this notice will be summarized and included in the request for OMB approval. All comments will also become a matter of public record.

Done in Washington, DC, this 26th day of June 2014.
Michael C. Gregoire,
Acting Administrator, Animal and Plant Health Inspection Service.

[FR Doc. 2014-15494 Filed 7-1-14; 8:45 am]

BILLING CODE 3410-34-P